DEPARTMENT OF COMMERCE

National Oceanic and Atmospheric Administration

National Sea Grant Review Panel

AGENCY: Notice of public meeting.

SUMMARY: This notice sets forth the schedule and proposed agenda of a forthcoming meeting of the Sea Grant Review Panel. The meeting will have several purposes. Panel members will discuss and provide advice on the National Sea Grant College Program in the areas of program evaluation, education and extension, science and technology programs, and other matters as described below:

DATES: The announced meeting is scheduled during two days: Thursday, November 8, 8:30 a.m. to 5:30 p.m.; Friday, November 9, 8:30 a.m. to 12:30 noon.

ADDRESSES: National Oceanic and Atmospheric Administration, Silver Spring Metro Center III, 1315 East-West Highway, Room 4527, Silver Spring, Maryland 20910.

FOR FURTHER INFORMATION CONTACT: Dr. Ronald C. Baird, Director, National Sea Grant College Program, National Oceanic and Atmospheric Administration, 1315 East-West Highway, Room 11716, Silver Spring, Maryland 20910, (301) 713-2448.

SUPPLEMENTARY INFORMATION: The Panel, which consists of a balanced representation from academia, industry, state government and citizens groups, was established in 1976 by Section 209 of the Sea Grant Improvement Act (P.L. 94-461, 33 U.S.C. 1128). The Panel advises the Secretary of Commerce and the Director of the National Sea Grant College Program with respect to operations under the Act, and such other matters as the Secretary refers to them for review and advice. The agenda for the meeting is as follows:

Thursday, November 8, 2001

8:30 a.m.—Welcoming and Opening Formalities

8:45 a.m.—Executive Committee Report

9:00 a.m.—State of Sea Grant Presentation

9:20 a.m.—Sea Grant Association Presentation

10:15 a.m.—Break

10:30 a.m.—Program Evaluation Committee Report

12:00 p.m.—Lunch

1:00 p.m.—Program Evaluation Committee Report (continued)

3:00 p.m.—Break

3:15 p.m.—Review of the National Sea Grant Office Status Report

3:45 p.m.—National Extension Review Update

4:00 p.m.—National Sea Grant Panel Procedures Manual

5:00 p.m.—Maine and New Hampshire Sea Grant Programs

5:40 p.m.—Adjourn

Friday, November 9, 2001

8:30 a.m.—Panel Business; Election of Officers, Committee Assignments, Panel Meeting Dates

9:00 a.m.—Congressional Update

9:45 a.m.—Commission on Ocean Policy Report

10:30 a.m.—Break

10:45 a.m.—NOAA Update

11:30 a.m.—National Sea Grant Office Update

12:15 p.m.—Wrap-up

12:30 p.m.—Adjourn

This meeting will be open to the public.

Louisa Koch,
Deputy Assistant Administrator, Office of Oceanic and Atmospheric Research.

[FR Doc. 01-25636 Filed 10-11-01; 8:45 am]

BILLING CODE 3510-KA-M